ENVIRONMENTAL PROTECTION AGENCY

40 CFR Part 52

[IN144-3; FRL-7559-1]

Approval and Promulgation of Implementation Plans; Indiana

AGENCY: Environmental Protection Agency (EPA).

ACTION: Proposed rule.

SUMMARY: EPA is proposing to approve revisions to particulate matter (PM) control requirements for certain Indiana natural gas combustion sources subject to 326 Indiana Administrative Code (IAC) 6-1, Indiana's PM regulations. EPA is also proposing to approve various cleanup revisions to this rule.

The revision primarily concerns PM limits for combustion sources that burn natural gas and are located in certain Indiana counties. Other revisions to the rule are minor rewording changes, the updating of source and facility names, and the elimination of references to sources that have shut down. EPA is proposing to approve the requested revisions.

DATES: The EPA must receive written comments by October 16, 2003.

ADDRESSES: You should mail written comments to: J. Elmer Bortzer, Chief, Regulation Development Section, Air Programs Branch (AR-18J), U.S. Environmental Protection Agency, Region 5, 77 West Jackson Boulevard, Chicago, Illinois 60604.

Comments may also be submitted electronically, or through hand delivery/courier, please follow the detailed instructions described in Part(I)(B) of the SUPPLEMENTARY INFORMATION section.

You may inspect copies of Indiana's submittal at: Regulation Development Section, Air Programs Branch (AR-18J), U.S. Environmental Protection Agency, Region 5, 77 West Jackson Boulevard, Chicago, Illinois 60604.

FOR FURTHER INFORMATION CONTACT: Matt Rau, Environmental Engineer, Regulation Development Section, Air Programs Branch (AR-18J), U.S. Environmental Protection Agency, Region 5, 77 West Jackson Boulevard, Chicago, Illinois 60604, Telephone: (312) 886-6524, e-mail: rau.matthew@epa.gov.

SUPPLEMENTARY INFORMATION: Throughout this document wherever “we,” “us,” or “our” are used we mean the EPA.

Table of Contents

I. General Information

II. Background

III. What is the EPA proposing to approve?

A. Provisions for natural gas combustion sources

B. Cleanup revisions

IV. What is the EPA's analysis of the requested revisions?

V. What are the environmental effects of these actions?

VI. Public comments

VII. Summary of EPA action

VIII. Statutory and Executive Order Reviews

I. General Information

A. How Can I Get Copies of This Document and Other Related Information?

1. The Regional Office has established an official public rulemaking file available for inspection at the Regional Office. EPA has established an official public rulemaking file for this action under “Region 5 Air Docket IN144.” The official public file consists of the documents specifically referenced in this action, any public comments received, and other information related to this action. Although a part of the official docket, the public rulemaking file does not include Confidential Business Information (CBI) or other information whose disclosure is restricted by statute. The official public rulemaking file is the collection of materials that is available for public viewing at the Air Programs Branch, Air and Radiation Division, EPA Region 5, 77 West Jackson Boulevard, Chicago, Illinois 60604. EPA requests that if at all possible, you contact the contact listed in the FOR FURTHER INFORMATION CONTACT section to schedule your inspection. The Regional Office's official hours of business are Monday through Friday, 8:30 to 4:30 excluding Federal holidays.

2. Electronic Access. You may access this Federal Register document electronically through the regulations.gov Web site located at http://www.regulations.gov where you can find, review, and learn how to submit comments on Federal rules that have been published in the Federal Register, the Government's legal newspaper, and that are open for comment.

For public commenters, it is important to note that EPA's policy is that public comments, whether submitted electronically or in paper, will be made available for public viewing at the EPA Regional Office, as EPA receives them and without change, unless the comment contains copyrighted material, CBI, or other information whose disclosure is restricted by statute. When EPA identifies a comment containing copyrighted material, EPA will provide a reference to that material in the version of the comment that is placed in the official public rulemaking file. The entire printed comment, including the copyrighted material, will be available at the Regional Office for public inspection.

B. How and to Whom Do I Submit Comments?

You may submit comments electronically, by mail, or through hand delivery/courier. To ensure proper receipt by EPA, identify the appropriate rulemaking identification number by including the text “Public comment on proposed rulemaking Region 5 Air Docket IN144” in the subject line on the first page of your comment. Please ensure that your comments are submitted within the specified comment period. Comments received after the close of the comment period will be marked “late.” EPA is not required to consider these late comments.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket. If EPA cannot read your comment due to technical difficulties and cannot contact you for clarification, EPA may not be able to consider your comment.

i. E-mail. Comments may be sent by electronic mail (e-mail) to bortzer.jay@epa.gov. Please include the text “Public comment on proposed rulemaking Region 5 Air Docket IN144” in the subject line. EPA's e-mail system is not an “anonymous access” system. If you send an e-mail comment directly without going through regulations.gov, EPA's e-mail system automatically captures your e-mail address. E-mail addresses that are automatically captured by EPA's e-mail system are included as part of the comment that is placed in the official public docket.

ii. Regulations.gov. Your use of regulations.gov is an alternative method of submitting electronic comments to EPA. Go directly to regulations.gov at http://www.regulations.gov, then click on the button “TO SEARCH FOR REGULATIONS CLICK HERE”, and select Environmental Protection Agency as the Agency name to search on. The list of current EPA actions available for comment will be listed. Please follow the online instructions for submitting comments. The system is an “anonymous access” system, which means EPA will not know your identity, e-mail address, or other contact information unless you provide it in the body of your comment.

iii. Disk or CD ROM. You may submit comments on a disk or CD ROM that you mail to the mailing address identified in Section 2, directly below. These electronic submissions will be accepted in WordPerfect, Word or ASCII file format. Avoid the use of special characters and any form of encryption.

2. By Mail. Send your comments to: J. Elmer Bortzer, Chief, Regulation Development Section, Air Programs Branch, (AR-18J), U.S. Environmental Protection Agency, Region 5, 77 West Jackson Boulevard, Chicago, Illinois 60604. Please include the text “Public comment on proposed rulemaking Regional Air Docket IN144” in the subject line on the first page of your comment.

3. By Hand Delivery or Courier. Deliver your comments to: J. Elmer Bortzer, Chief, Regulation Development Section, Air Programs Branch, (AR-18J), U.S. Environmental Protection Agency, Region 5, 77 West Jackson Boulevard, 18th floor, Chicago, Illinois 60604. Such deliveries are only accepted during the Regional Office's normal hours of operation. The Regional Office's official hours of business are Monday through Friday, 8:30 to 4:30 excluding Federal holidays.

C. How Should I Submit CBI to the Agency?

Do not submit information that you consider to be CBI electronically to EPA. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the official public regional rulemaking file. If you submit the copy that does not contain CBI on disk or CD ROM, mark the outside of the disk or CD ROM clearly that it does not contain CBI. Information not marked as CBI will be included in the public file and available for public inspection without prior notice. If you have any questions about CBI or the procedures for claiming CBI, please consult the person identified in the FOR FURTHER INFORMATION CONTACT section.

D. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate regional file/rulemaking identification number in the subject line on the first page of your response. It would also be helpful if you provided the name, date, and Federal Register citation related to your comments.

II. Background

Indiana submitted a State Implementation Plan (SIP) request to EPA on December 19, 2001. This request sought approval of provisions for certain natural gas combustion sources, cleanup provisions, and other changes to 326 IAC 6-1. EPA published a proposed and a direct final rule to approve the requested revisions in the Federal Register on October 11, 2002 (67 FR 63268-70, 63353). EPA received an adverse comment on the rule from Ispat Inland, Inc. concerning the inclusion of 326 IAC 6-1-10.1(l) through (v), Continuous Compliance Plan requirements for Lake County, Indiana. As a result of this adverse comment, EPA published a withdrawal of the direct final rule in the November 27, 2002 Federal Register (67 FR 70850).

On January 19, 2002, Indiana revised 326 IAC 6-1, to delete subsection 1(b), which concerned the relationship between the limitations in that rule and emission limitations established in certain State operating permits. This action also included realphabetizing sections 1(c) and 1(d) to 1(b) and 1(c) respectively. Subsection 1(b) was deleted for consistency purposes based on changes made to the part 70 program, as described in the Indiana Part 70 Submittal dated March 20, 2002. The revision made to the rule by deleting the original 326 IAC 6-1-1(b) will not be evaluated in this rulemaking action. For this SIP revision request, EPA will only be evaluating the new rule 6-1-1 subsections (a), (b), and (c) (formerly (a), (c), and (d)). In addition, by letter of March 17, 2003 to EPA, Indiana requested that EPA take no further action on the continuous compliance plan provisions in 326 IAC 6-1-10.1(l) through (v) and the Lake County contingency particulate matter contingency measures in 326 IAC 6-1-11.2.

III. What Is the EPA Proposing To Approve?

EPA is proposing to approve changes to 326 IAC 6-1 as revisions to the Indiana SIP. These revisions include exempting certain natural gas combustion sources from PM emissions limits and replacing the limits with a requirement that such sources may only burn natural gas. The other changes consist of certain cleanup provisions, such as removing limits for sources that have shut down and updating names of sources.

A. Provisions for Natural Gas Combustion Sources

Revised 326 IAC 6-1-1(b) states that PM limitations shall not be established for combustion units that burn only natural gas at sources or facilities identified in sections 8.1, 9, and 12 through 18 of the rule, as long as the units continue to burn only natural gas. The provisions of 326 IAC 6-1-1(b) apply to sources in Clark, Dearborn, Dubois, Howard, Marion, St. Joseph, Vanderburgh, Vigo, and Wayne counties.

This revision replaces PM limitations on gas-fired combustion units with the requirement that they only burn natural gas. Since natural gas combustion sources generally have very low PM emissions, enforcement of the “natural gas only” requirement will ensure that these units do not emit PM in excess of what would have been required under the previously approved rules. Revised 6-1-1(c) states that if the emission limits in sections 2 and 8.1 through 18 conflict with or are inconsistent with new source performance standards established in 326 IAC 12, then the more stringent limitations apply.

In addition, since this revised rule does not allow increased emissions over the current limits, this change is not expected to have an adverse effect on air quality. Therefore, EPA is proposing to approve this requested SIP revision.

B. Cleanup Revisions

These revisions affect several sections of 326 IAC 6-1. They are sections 1(a), 1.5, 2 through 6, 8.1, 9, 10.1(a) through (k), 11.1, and 12 through 18. They generally consist of adding definitions, minor wording changes, updating of source and facility names, and elimination of reference to sources or facilities that have shut down. While these changes will not result in a decrease in actual PM emissions, removal of sources and facilities that have shut down will result in a decrease in the emissions allowed under the rules. EPA is also proposing to approve the cleanup revisions into the SIP.

IV. What Is the EPA's Analysis of the Requested Revisions?

The primary revision replaces PM limitations on gas-fired combustion units with the requirement that they only burn natural gas. PM emissions from sources burning natural gas are typically very low. The AP-42 emission factor from natural gas combustion for filterable PM is 1.9 pounds per million standard cubic feet of natural gas. This is equivalent to 0.00186 pounds per million British Thermal Units. EPA assumes that all PM resulting from natural gas combustion is less than one micrometer (μm) in diameter. Therefore, the AP-42 PM emission factor is also a valid estimate of PM less than 10 μm diameter(PM-10) emissions. The addition of 326 IAC 6-1-1(b) is not expected to harm air quality because natural gas burns with low PM emissions. Therefore, the emissions will not exceed the current limits.

Additional revisions to other portions of 326 IAC 6-1 help clean up the rule. These revisions consist of adding definitions, minor rewording, updating of source and facility names, and elimination of reference to sources that have shut down. The rewording of the rule helps increase its clarity. Some facilities and sources have changed their names since the last update of the rule. These revisions update the name of those facilities and sources. Indiana has requested that EPA delete from the rule sources that have shut down. The updates and deletions will keep the SIP current.

V. What Are the Environmental Effects of These Actions?

Particulate matter interferes with lung function when inhaled. Exposure to PM can cause heart and lung disease. PM also aggravates asthma and bronchitis. Airborne particulate is the main source of haze that causes a reduction in visibility. It also is deposited on the ground and in the water. This harms the environment by changing the nutrient and chemical balance.

The addition of 326 IAC 6-1-1(b) will not cause sources to emit PM in excess of the emission limits because natural gas burns with low PM emissions. Since this SIP revision does not relax any emissions limits it will not have an adverse effect on air quality. Also, the elimination of limits on sources that have shut down will result in lower overall allowed PM emission limits.

VI. Public Comments

Any public comments submitted on the October 11, 2002 proposed rule must be resubmitted to be considered in this proposed rulemaking action. As stated above, comments must be received by October 16, 2003.

VII. Summary of EPA Action

EPA is proposing to approve revisions to 326 IAC 6-1, Indiana's PM emission limits. The revisions include the addition of a provision allowing sources in certain counties that are burning only natural gas to be exempt from PM emission limits and providing that if there are conflicting limits, the more stringent limitation will apply. Other revisions consist of adding a section of definitions, minor rewording, updating of source and facility names, and elimination of reference to sources that have shut down.

VIII. Statutory and Executive Order Reviews

Executive Order 12866, Regulatory Planning and Review

The Office of Management and Budget (OMB) has exempted this regulatory action from Executive Order 12866, entitled “Regulatory Planning and Review.”

Paperwork Reduction Act

Under the Paperwork Reduction Act, 44 U.S.C. 3501 et seq., OMB must approve all “collections of information” by EPA. The Act defines “collection of information” as a requirement for “answers to * * * identical reporting or recordkeeping requirements imposed on ten or more persons * * *” 44 U.S.C. 3502(3)(A). Because the proposed FIP only applies to one company, the Paperwork Reduction Act does not apply.

Regulatory Flexibility Act

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions.

This rule will not have a significant impact on a substantial number of small entities because SIP approvals under section 110 and subchapter I, part D of the Clean Air Act do not create any new requirements but simply approve requirements that the State is already imposing. Therefore, because the Federal SIP approval does not create any new requirements, I certify that this action will not have a significant economic impact on a substantial number of small entities.

Moreover, due to the nature of the Federal-State relationship under the Clean Air Act, preparation of flexibility analysis would constitute Federal inquiry into the economic reasonableness of state action. The Clean Air Act forbids EPA to base its actions concerning SIPs on such grounds. Union Electric Co., v. U.S. EPA, 427 U.S. 246, 255-66 (1976); 42 U.S.C. 7410(a)(2).

Unfunded Mandates Reform Act

Under sections 202 of the Unfunded Mandates Reform Act of 1995 (“Unfunded Mandates Act”), signed into law on March 22, 1995, EPA must prepare a budgetary impact statement to accompany any proposed or final rule that includes a Federal mandate that may result in estimated costs to State, local, or tribal governments in the aggregate; or to the private sector, of $100 million or more. Under section 205, EPA must select the most cost-effective and least burdensome alternative that achieves the objectives of the rule and is consistent with statutory requirements. Section 203 requires EPA to establish a plan for informing and advising any small governments that may be significantly or uniquely impacted by the rule.

EPA has determined that the approval action proposed does not include a Federal mandate that may result in estimated costs of $100 million or more to either State, local, or tribal governments in the aggregate, or to the private sector. This Federal action proposes to approve pre-existing requirements under State or local law, and imposes no new requirements. Accordingly, no additional costs to State, local, or tribal governments, or to the private sector, result from this action.

Executive Order 13132, Federalism

Federalism (64 FR 43255, August 10, 1999) revokes and replaces Executive Orders 12612 (Federalism) and 12875 (Enhancing the Intergovernmental Partnership). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This rule will not have substantial direct effects on the States, on the relationship between the national government and the States, or on the distribution of power and responsibilities among the various levels of government, as specified in Executive Order 13132, because it merely approves a state rule implementing a Federal standard, and does not alter the relationship or the distribution of power and responsibilities established in the Clean Air Act. Thus, the requirements of section 6 of the Executive Order do not apply to this rule.

Executive Order 13175, Coordination With Indian Tribal Governments

Executive Order 13175, entitled “Consultation and Coordination with Indian Tribal Governments” (65 FR 67249, November 9, 2000), requires EPA to develop an accountable process to ensure “meaningful and timely input by tribal officials in the development of regulatory policies that have tribal implications.” This proposed rule does not have tribal implications, as specified in Executive Order 13175. Thus, Executive Order 13175 does not apply to this rule.

Executive Order 13045, Protection of Children From Environmental Health Risks and Safety Risks

Protection of Children from Environmental Health Risks and Safety Risks (62 FR 19885, April 23, 1997), applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This rule is not subject to Executive Order 13045 because it does not involve decisions intended to mitigate environmental health or safety risks.

Executive Order 13211, Actions That Significantly Affect Energy Supply, Distribution, or Use

This rule is not subject to Executive Order 13211, “Actions Concerning Regulations That Significantly Affect Energy Supply, Distribution, or Use” (66 FR 28355, May 22, 2001) because it is not a significant regulatory action under Executive Order 12866.

National Technology Transfer and Advancement Act

Section 12 of the National Technology Transfer and Advancement Act (NTTAA) of 1995 requires Federal agencies to evaluate existing technical standards when developing a new regulation. To comply with NTTAA, EPA must consider and use “voluntary consensus standards” (VCS) if available and applicable when developing programs and policies unless doing so would be inconsistent with applicable law or otherwise impractical.

The EPA believes that VCS are inapplicable to this action which does not require the public to perform activities conducive to the use of VCS.

List of Subjects in 40 CFR Part 52

Environmental protection, Air pollution control, Intergovernmental relations, Particulate matter, Reporting and recordkeeping requirements.

Dated: September 3, 2003.
Jerri-Anne Garl,
Acting Regional Administrator, Region 5.

[FR Doc. 03-23592 Filed 9-15-03; 8:45 am]

BILLING CODE 6560-50-P